NATIONAL AERONAUTICS AND SPACE ADMINISTRATION

[Notice (20-039)]

NASA Advisory Council; Regulatory and Policy Committee; Meeting

AGENCY: National Aeronautics and Space Administration.

ACTION: Notice of meeting.

SUMMARY: In accordance with the Federal Advisory Committee Act, as amended, the National Aeronautics and Space Administration (NASA) announces a meeting of the Regulatory and Policy Committee of the NASA Advisory Council. This Committee reports to the NAC.

DATES: Wednesday, April 15, 2020, from 10:00 a.m.-3:00 p.m., Eastern Time.

ADDRESSES: Meeting will be virtual only. See dial-in and WebEx information below under SUPPLEMENTARY INFORMATION.

FOR FURTHER INFORMATION CONTACT: Mr. Andrew Rowe, Designated Federal Officer, Office of Legislative and Intergovernmental Affairs, NASA Headquarters, Washington, DC 20546. Email is andrew.rowe@nasa.gov and phone is 202-358-4269.

SUPPLEMENTARY INFORMATION: As noted above, this meeting will be available telephonically and by WebEx only. You must use a touch-tone phone to participate in this meeting. Any interested person may dial the toll number 1-415-527-5035 and then the numeric passcode 903548068, followed by the # sign, or toll-free 1-844-467-6272 and then the numeric passcode 713620, followed by the # sign. NOTE: If dialing in, please “mute” your phone. To join via WebEx, the link is: https://nasaenterprise.webex.com/. The meeting number is: 906 680 261 and the meeting password is NAC-RPC-April20 (case sensitive).

The agenda for the meeting will include:

—Assuring Commercial and Governmental Payloads on Low Earth Orbit (LEO) Commercial Modules and Free Flying Habitats

—Discussion of Spectrum Issues

Patricia Rausch,
Advisory Committee Management Officer, National Aeronautics and Space Administration.

[FR Doc. 2020-06357 Filed 3-26-20; 8:45 am]

BILLING CODE 7510-13-P